DEPARTMENT OF THE INTERIOR

National Park Service

[NPS-WASO-NAGPRA-NPS0034426; PPWOCRADN0-PCU00RP14.R50000]

Notice of Intent to Repatriate Cultural Items: U.S. Army Corps of Engineers, Mobile District, Mobile, AL

AGENCY: National Park Service, Interior.

ACTION: Notice.

SUMMARY: In accordance with the Native American Graves Protection and Repatriation Act (NAGPRA), the U.S. Army Corps of Engineers, Mobile District, intends to repatriate certain cultural items that meet the definition of unassociated funerary objects and that have a cultural affiliation with the Indian Tribes or Native Hawaiian organizations in this notice. The cultural items were removed from Troup County, GA.

DATES: Repatriation of the cultural items in this notice may occur on or after September 30, 2022.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the determinations in this notice, including the results of consultation, can be found in the summary or related records held by the U.S. Army Corps of Engineers, Mobile District.

Description

Between 1966 and 1968, the University of Georgia conducted excavations at the Burnt Village Site (9TP9), in Troup County, GA, in advance of the construction and subsequent inundation of the West Point Lake reservoir. Human remains were identified in a minimum of 20 individual grave locations, but due to preservation issues, an unknown number of individuals were uncovered but not exhumed.

Feature 153 was documented as a burial location. The collection from the Burnt Village site, which has been housed at the University of Georgia since the excavation, contains objects from Feature 153, but no human remains. Based on this circumstantial evidence, the human remains associated with these objects were never removed from the Burnt Village Site.

The 95 objects under the control of Mobile District known to originate from Feature 153 include nine glass fragments, two lots of beads, nine individual beads (tube and seed), two lots of wood/charcoal, five charred pieces of wood, one lot of charred seeds, three brass fragments, one iron fragment, one lead fragment, one unidentified metal fragment, 45 ceramic sherds, one lot of daub, six individual pieces of daub, two pieces of quartz, one lot of faunal remains, three individual faunal skeletal elements, and three unmodified rocks.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace this relationship: geographical, archeological, linguistic, folkloric, oral traditional, historical, and expert opinion. Geographically, the Burnt Village site is the location of the historically known Creek Town of Okfuskeneena. The site is located within established Creek Indian territory on the western bank of the central Chattahoochee River in Troup County, GA. This area is both within treaty-designated Creek lands, and land known through historic and ethnographic accounts as being home to the Creek Indians. Archeological investigations of the site confirmed historical accounts of the village location, which was recorded as being attacked on September 27, 1793, by white settlers. Evidence includes diagnostic artifacts that correspond to those expected and described in historical accounts. Linguistic and folkloric evidence for settlements in the area reflect a Creek occupation of the central Chattahoochee River Valley, including the area of the Burnt Village site.

Historic accounts indicate that the survivors of Creek Town of Okfuskeneena fled and were welcomed into neighboring Creek polities, which eventually became part of the Creek Confederations. Oral traditional information provided by tribal members further demonstrates that the descendants of the Town of Okfuskeneena currently reside within, and are part of, The Muscogee (Creek) Nation.

Determinations

Pursuant to NAGPRA and its implementing regulations, and after consultation with the appropriate Indian Tribes and Native Hawaiian organizations, the U.S. Army Corps of Engineers, Mobile District, has determined that:

• The 95 cultural items described above are reasonably believed to have been placed with or near individual human remains at the time of death or later as part of the death rite or ceremony and are believed, by a preponderance of the evidence, to have been removed from a specific burial site of a Native American individual.

• There is a relationship of shared group identity that can be reasonably traced between the cultural items and The Muscogee (Creek) Nation.

Requests for Repatriation

Additional, written requests for repatriation of the cultural items in this notice must be sent to Ms. Alexandria Smith, U.S. Army Corps of Engineers, Mobile District, 109 St. Joseph Street, P.O. Box 2288, Mobile, AL 36628-0001, telephone (251) 690-2728, email Alexandria.N.Smith@usace.army.mil. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 30, 2022. If competing requests for repatriation are received, the U.S. Army Corps of Engineers, Mobile District, must determine the most appropriate requestor prior to repatriation. Requests for joint repatriation of the cultural items are considered a single request and not competing requests. The U.S. Army Corps of Engineers, Mobile District, is responsible for sending a copy of this notice to the Indian Tribes and Native Hawaiian organizations identified in this notice.

Authority: Native American Graves Protection and Repatriation Act, 25 U.S.C. 3003, and the implementing regulations, 43 CFR 10.8, 10.10, and 10.14.

Dated: August 24, 2022.
Melanie O'Brien,
Manager, National NAGPRA Program.

[FR Doc. 2022-18738 Filed 8-30-22; 8:45 am]

BILLING CODE 4312-52-P